DEPARTMENT OF THE INTERIOR

Bureau of Land Management

[OR-958-1430-ET; HAG-0259; WAOR-57423]

Proposed Withdrawal and Opportunity for Public Meeting; Washington

AGENCY: Bureau of Land Management, Interior.

ACTION: Notice.

SUMMARY: The U.S. Department of Agriculture, Forest Service, proposes to withdraw approximately 646.40 acres of National Forest System land, lying within the Colville National Forest, to protect the unique characteristics, sensitive fauna, hydrology, and the research values of the Halliday Fen Research Natural Area. This notice closes the land for up to 2 years from location and entry under the United States mining laws.

EFFECTIVE DATE: Comments and requests for a public meeting must be received by December 11, 2002.

ADDRESSES: Comments and meeting requests should be sent to the Forest Supervisor, Colville National Forest, Federal Building, 7665 South Main, Colville, Washington 99114.

FOR FURTHER INFORMATION CONTACT: Diana Hsieh, Realty Specialist, Colville National Forest, 509-684-7129, or Charles R. Roy, BLM Oregon/Washington State Office, 503-808-6189.

SUPPLEMENTARY INFORMATION: On May 23, 2002, the Forest Service filed an application to withdraw the following described National Forest System land from location and entry under the United States mining laws (30 U.S.C. Ch. 2 (1994), but not the mineral leasing laws, subject to valid existing rights:

Willamette Meridian

Colville National Forest

T. 40 N., R. 44 E.,

Sec. 31, W½NE¼, SE¼NE¼, SE¼NW¼, E½SW¼, NW¼SE¼.

The portions of the following land as more particularly identified and described by metes and bounds in the official records of the Bureau of Land Management, Oregon/Washington State Office and the Colville National Forest Office, Colville, Washington:

T. 39 N., R. 43 E.,

Sec. 1, NE¼NE¼.

T. 40 N., R. 43 E.,

Sec. 36, SE¼SE¼.

T. 39 N., R. 44 E.,

Sec. 6, NW¼NE¼, N½NW¼, SW¼NW¼.

T. 40 N., R. 44 E.,

Sec. 30, NW¼SE¼, SE¼SW¼, S½SE¼;

Sec. 31, lots 2, 3, 4, NE¼NE¼, NE¼NW¼, NE¼SE¼, S½SW¼;

Sec. 32, W½NW¼ and W¼SW¼.

The areas described aggregate approximately 646.40 acres in Pend Oreille County.

The purpose of the proposed withdrawal is to protect the unique characteristics, sensitive fauna, hydrology, and the research values of the Halliday Fen Research Natural Area.

For a period of 90 days from the date of publication of this notice, all persons who wish to submit comments, suggestions, or objections in connection with the proposed withdrawal may present their views in writing to the Forest Supervisor at the address indicated above.

Notice is hereby given that an opportunity for a public meeting is afforded in connection with the proposed withdrawal. All interested parties who desire a public meeting for the purpose of being heard on the proposed withdrawal must submit a written request to the Forest Supervisor at the address indicated above within 90 days from the date of publication of this notice. Upon determination by the authorized officer that a public meeting will be held, a notice of the time and place will be published in the Federal Register at least 30 days before the scheduled date of the meeting.

The withdrawal application will be processed in accordance with the regulations set forth in 43 CFR 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

Dated: June 7, 2002.
Robert D. DeViney Jr.,
Chief, Branch of Realty and Records Services.

[FR Doc. 02-23040 Filed 9-10-02; 8:45 am]

BILLING CODE 4310-33-P